DEPARTMENT OF LABOR

Employment and Training Administration

[TA-W-63,575]

Philips Consumer Lifestyle, Including On-Site Leased Workers From Ryder Integrated Logistics, Ledgewood, NJ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on July 16, 2008, applicable to workers of Philips Consumer Lifestyle, Ledgewood, New Jersey. The notice was published in the Federal Register on July 30, 2008 (73 FR 44284). The certification was amended on September 12, 2008 to include employees of the subject firm working at various locations in multiple States (TA-W-63,575A—TA-W-63,575H). The notice was published in the Federal Register on September 23, 2008 (73 FR 54859-54860).

At the request of the State agency, the Department reviewed the certification for workers of the subject firm. The workers were engaged in the production of antennas and packaged electronic accessories.

New information shows that workers leased from Ryder Integrated Logistics were employed on-site at the Ledgewood, New Jersey location of Philips Consumer Lifestyle. The Department has determined that these workers were sufficiently under the control of the subject firm to be considered leased workers.

Based on these findings, the Department is amending this certification to include workers leased from Ryder Integrated Logistics working on-site at the Ledgewood, New Jersey location of the subject firm.

The intent of the Department's certification is to include all workers of Philips Consumer Lifestyle who were adversely affected by a shift in production of antennas and packaged electronic accessories to China.

The amended notice applicable to TA-W-63,575 is hereby issued as follows:

“All workers of Philips Consumer Lifestyle, including on-site leased workers from Ryder Integrated Logistics, Ledgewood, New Jersey, who became totally or partially separated from employment on or after June 18, 2007, through July 16, 2010, are eligible to apply for adjustment assistance under Section 223 of the Trade Act of 1974, and are also eligible to apply for alternative trade adjustment assistance under Section 246 of the Trade Act of 1974.”

Signed at Washington, DC, this 2nd day of March 2009.
Linda G. Poole,
Certifying Officer, Division of Trade Adjustment Assistance.

[FR Doc. E9-5174 Filed 3-10-09; 8:45 am]

BILLING CODE 4510-FN-P